DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent No. 5,976,284: Patterned Conducting Polymer Surfaces and Process for Preparing the Same and Devices Containing the Same, Navy Case No. 78,825.//U.S. Patent No. 5,828,432: Conducting Substrate, Liquid Crystal Device Made Therefrom and Liquid Crystalline Composition in Contact Therewith, Navy Case No. 77,014.// Navy Case No. 84,102: Highly Conducting Transparent Thin Polymers Films Formed from Double and Multiple Layers of Poly(3,4 Ethylene Dioxythiophene) and its Perivatives.//Navy Case No. 84,103: Highly Conducting and Transparent Thin Films Formed from New Fluorinated Perivatives of 3,4 Ethylene Dioxythiophene.

ADDRESSES: Requests for copies of the inventions cited should be directed to the Naval Research Laboratory, Code 1004, 4555 Overlook Avenue, SW., Washington, DC 20375-5320, and must include the Navy Case number.

FOR FURTHER INFORMATION CONTACT: Catherine M. Cotell,Ph.D., Head, Technology Transfer Office, NRL Code 1004,4555 Overlook Avenue, SW., Washington, DC 20375-5320, telephone (202) 767-7230. Due to temporary U.S. Postal Service delays, please fax (202) 404-7920, E-Mail: cotell@nrl.navy.mil or use courier delivery to expedite response.

(Authority: 35 U.S.C. 207, 37 CFR Part 404).
Dated: June 9, 2003.
E.F. McDonnell,
Major, U.S. Marine Corps, Federal Register Liaison Officer.

[FR Doc. 03-14924 Filed 6-12-03; 8:45 am]

BILLING CODE 3810-FF-P